DEPARTMENT OF STATE

[Public Notice: 9337]

Contingent Waiver of Certain Sanctions Related to the Joint Comprehensive Plan of Action

AGENCY: Department of State.

ACTION: Notice.

SUMMARY: Pursuant to section 11 of Annex V of the Joint Comprehensive Plan of Action (JCPOA), the Secretary of State has issued waivers and made findings with respect to relevant statutory sanctions. The contingent waivers exercised and findings made by the Secretary pertain to certain sanctions provided for in relevant sections of the Iran Freedom and Counter-Proliferation Act of 2012, the Iran Threat Reduction and Syria Human Rights Act of 2012, the National Defense Authorization Act for Fiscal Year 2012, and the Iran Sanctions Act of 1996. These waivers and findings would apply to certain transactions by non-U.S. persons involving Iran that take place after Implementation Day, as set forth in Annex V and the corresponding provisions of Annex II of the JCPOA. The transactions subject to the waivers and findings that the Secretary has issued include: Transactions with Iran's financial and banking sectors, including the Central Bank of Iran; transactions for the provision of underwriting services, insurance, or reinsurance in connection with activities consistent with the JCPOA; transactions with Iran's energy and petrochemical sectors, including the purchase or sale of petroleum, petroleum products, or petrochemicals or investment in or support to those sectors; transactions with Iran's shipping sector; trade with Iran in precious metals and other metals and software for activities consistent with the JCPOA; and trade with and support for Iran's automotive sector.

DATES: The waivers and findings included herein shall take effect upon confirmation by the Secretary of State that Iran has implemented the nuclear-related measures specified in Sections 15.1-15.11 of Annex V of the JCPOA as verified by the International Atomic Energy Agency.

FOR FURTHER INFORMATION CONTACT: Stu Huffman, Office of Economic Sanctions Policy and Implementation, Department of State, Telephone: (202) 647-8848.

SUPPLEMENTARY INFORMATION: The Secretary of State has hereby made the following determinations and certifications:

Pursuant to Sections 1244(i), 1245(g), 1246(e), and 1247(f) of the Iran Freedom and Counter-Proliferation Act of 2012 (subtitle D of title XII of Pub. L. 112-239, 22 U.S.C. 8801 et seq.) (IFCA), I determine that it is vital to the national security of the United States to waive the imposition of sanctions under the following provisions, to the extent necessary to implement the Joint Comprehensive Plan of Action (JCPOA), including the U.S. commitments with respect to sanctions described in Sections 17.1-17.2 and 17.5 of Annex V of the JCPOA, effective as provided in the last paragraph below:

1. Section 1244(c)(1) of IFCA ¹ for:

¹ Pursuant to section 1244(c)(2)(C)(iii) of IFCA, the relevant sanction in Section 1244(c)(1) continues not to apply, by its terms, in the case of Iranian financial institutions that have not been designated for the imposition of sanctions in connection with Iran's proliferation of weapons of mass destruction or delivery systems for weapons of mass destruction, support for international terrorism, or abuses of human rights (as described in section 1244(c)(3)).

a. Transactions by non-U.S. persons; ² and

² For purposes of the waivers set forth herein, the term “transactions by non-U.S. persons” includes transactions by non-U.S. entities that are owned or controlled by a U.S. person (“U.S.-owned or controlled foreign entities”) to the extent U.S.-owned or -controlled foreign entities are authorized by the Office of Foreign Assets Control (OFAC) of the Department of the Treasury to engage in such transactions.

b. transactions by U.S. persons for the sale of commercial passenger aircraft and spare parts and components for such aircraft, and associated services to Iran as described in Section 5.1.1 of Annex II to the JCPOA, provided that OFAC has issued any required licenses;

excluding any transactions involving persons on OFAC's list of Specially Designated Nationals and Blocked Persons ³ (hereinafter the SDN List);

³ On Implementation Day of the JCPOA, individuals and entities identified in Attachment 3 to Annex II of the JCPOA will be removed from the SDN List and, as appropriate, the Foreign Sanctions Evaders List and/or the Non-SDN Iran Sanctions Act List. For transactions with individuals or entities that have been removed from the SDN List but that remain blocked solely pursuant to Executive Order 13599, this waiver applies only if and to the extent necessary to implement the JCPOA, including the U.S. commitments with respect to sanctions described in Sections 17.1-17.2 and 17.5 of Annex V of the JCPOA.

2. Section 1244(d) of IFCA for transactions by non-U.S. persons, excluding any transactions involving persons on the SDN List;

3. Section 1244(h)(2) of IFCA for transactions by foreign financial institutions, excluding any transactions involving persons on the SDN List;

4. Sections 1245(a)(1)(A) of IFCA for transactions by non-U.S. persons, excluding any transactions involving persons on the SDN List;

5. Sections 1245(a)(1)(B) of IFCA for transactions by non-U.S. persons, excluding any transactions involving persons on the SDN List;

6. Section 1245(a)(1)(C) of IFCA for transactions by non-U.S. persons for the sale, supply, or transfer directly or indirectly to or from Iran of materials described in Section 1245(d), and for associated services, with respect to materials that are:

(a) To be used in connection with the energy, shipping, or shipbuilding sector of Iran, or resold, retransferred, or otherwise supplied to an end user in one or more such sectors;

(b) sold, supplied, or transferred to any individual or entity blocked solely pursuant to E.O. 13599, or resold, retransferred, or otherwise supplied to such an individual or entity; and

(c) determined pursuant to Section 1245(e)(3) to be used as described in that section, or resold, retransferred, or otherwise supplied for use in the nuclear program of Iran;

excluding transactions involving: (i) Persons on the SDN List; (ii) the sale, supply, or transfer of materials described in section 1245(d) that have not been approved by the procurement channel established pursuant to paragraph 16 of United Nations Security Council Resolution 2231 and Section 6 of Annex IV of the JCPOA, in cases in which the procurement channel applies; or (iii) the sale, supply, or transfer of materials described in section 1245(d) if the material is sold, supplied, or transferred, or resold, retransferred, or otherwise supplied directly or indirectly, for use in connection with the military or ballistic missile program of Iran;

7. Section 1245(c) of IFCA for transactions by non-U.S. persons that are within the scope of the waivers under Section 1245(a)(1) of IFCA as described in paragraphs 4-6 above, excluding any transactions involving persons on the SDN List;

8. Section 1246(a)(1)(A) of IFCA ⁴ for the provision of underwriting services or insurance or reinsurance by non-U.S. persons in connection with activities involving Iran that are described in Sections 17.1-17.2 and 17.5 of Annex V of the JCPOA, excluding any transactions involving persons on the SDN List;

⁴ Pursuant to section 1246(a)(1)(C) of IFCA, the relevant sanction in section 1246(a)(1) continues not to apply, by its terms, in the case of Iranian financial institutions that have not been designated for the imposition of sanctions in connection with Iran's proliferation of weapons of mass destruction or delivery systems for weapons of mass destruction, support for international terrorism, or abuses of human rights (as described in section 1246(b)).

9. Section 1246(a)(1)(B)(i) of IFCA for the provision of underwriting services or insurance or reinsurance by non-U.S. persons, excluding any transactions involving persons on the SDN List;

10. Section 1246(a)(1)(B)(ii) of IFCA for the provision of underwriting services or insurance or reinsurance by non-U.S. persons for transactions that are within the scope of the waivers under section 1245(a)(1)(B) and (C) of IFCA as described in paragraphs 5-6 above, excluding any transactions involving persons on the SDN List;

11. Section 1246(a)(1)(C) of IFCA for the provision of underwriting services or insurance or reinsurance by non-U.S. persons to or for any individual or entity blocked solely pursuant to E.O. 13599, excluding any transactions involving persons on the SDN List;

12. Section 1246(a) of IFCA for the provision of underwriting services or insurance or reinsurance by U.S. persons for the sale of commercial passenger aircraft and related parts and services to Iran as described in Section 5.1.1 of Annex II of the JCPOA, provided that OFAC has issued any required licenses, excluding any transactions involving persons on the SDN List; and

13. Section 1247(a) of IFCA ⁵ to the extent required for transactions by foreign financial institutions, excluding any transactions involving persons on the SDN List.

⁵ Pursuant to section 1247(a) of IFCA, the relevant sanction in section 1247(a) still continues not to apply, by its terms, in the case of Iranian financial institutions that have not been designated for the imposition of sanctions in connection with Iran's proliferation of weapons of mass destruction or delivery systems for weapons of mass destruction, support for international terrorism, or abuses of human rights (as described in section 1247(b)).

Pursuant to section 1245(d)(5) of the National Defense Authorization Act for FY 2012 (Pub. L. 112-81), as amended, I determine that it is in the national security interest of the United States to waive the imposition of sanctions under Section 1245(d)(1) to the extent necessary to implement the JCPOA, including the U.S. commitments with respect to sanctions described in Sections 17.1-17.2 and 17.5 of Annex V of the JCPOA, for transactions by foreign financial institutions with the Central Bank of Iran, excluding any transactions involving persons on the SDN List, effective as provided in the last paragraph below.

Pursuant to sections 212(d)(1) and 213(b)(1) of the Iran Threat Reduction and Syria Human Rights Act of 2012 (Pub. L. 112-158) (TRA) and section 4(c)(1)(A) of the Iran Sanctions Act of 1996 (Pub. L. 104-172, 50 U.S.C. 1701 note) (ISA), I find that it is vital to the national security interests of the United States to issue waivers regarding the application of sanctions under the following provisions for individuals and entities that engage in or propose to engage in the activities described in (1)-(3) below, effective as provided in the last paragraph below:

1. Section 212(a) of the TRA for transactions by non-U.S. nationals in cases where the transactions are for activities described in Sections 4.2.1, 4.3, and 4.4 of Annex II of the JCPOA and do not involve persons on the SDN List.

2. Section 213(a) of the TRA for transactions by non-U.S. nationals in cases where the transactions are for activities described in Section 4.1.5 and 4.1.7 of Annex II of the JCPOA and do not involve persons on the SDN List.

3. Section 5(a) of ISA for transactions by non-U.S. nationals in cases where the transactions are for activities described in Sections 4.2.1, 4.3.1, 4.3.2, 4.3.4, and 4.3.6 of Annex II of the JCPOA and do not involve persons on the SDN List.

The waivers and findings set forth above shall take effect upon confirmation by the Secretary of State that Iran has implemented the nuclear-related measures specified in Sections 15.1-15.11 of Annex V of the JCPOA as verified by the International Atomic Energy Agency.

End of the determinations by the Secretary of State.

Dated: October 23, 2015.
Kurt Tong,
Acting Assistant Secretary for Economic and Business Affairs.

[FR Doc. 2015-27863 Filed 10-30-15; 8:45 am]

BILLING CODE 4710-07-P